DEPARTMENT OF HEALTH AND HUMAN SERVICES

Food and Drug Administration

[Docket No. FDA-2016-N-0001]

Clinical Trial Design Considerations for Malaria Drug Development; Notice of Public Workshop; Correction

AGENCY: Food and Drug Administration, HHS.

ACTION: Notice; correction.

SUMMARY: The Food and Drug Administration (FDA) is correcting a notice that appeared in the Federal Register of Tuesday, May 10, 2016 (81 FR 28876). The document announced a public workshop entitled “Clinical Trial Design Considerations for Malaria Drug Development.” The document was published with the incorrect title and incorrect Internet address in the Transcripts section. This document corrects those errors.

FOR FURTHER INFORMATION CONTACT: Lori Benner and/or Jessica Barnes, Center for Drug Evaluation and Research, Food and Drug Administration, 10903 New Hampshire Ave., Bldg. 22, Rm. 6221, Silver Spring, MD 20993-0002, 301-796-1300.

SUPPLEMENTARY INFORMATION: In FR Doc. 2016-10913, appearing on page 28876 in the Federal Register of Tuesday, May 10, 2016, the following corrections are made:

1. On page 28876, in the first column, the title is corrected to read “Clinical Trial Design Considerations for Malaria Drug Development.”

2. On page 28876, in the second column, the Transcripts section is corrected to read “Please be advised that as soon as a transcript is available, it will be accessible at http://www.regulations.gov. It may be viewed at the Division of Dockets Management (HFA-305), Food and Drug Administration, 5630 Fishers Lane, Rm.1061, Rockville, MD. A transcript will also be available in either hard copy or on CD-ROM, after submission of a Freedom of Information request. Written requests are to be sent to Division of Freedom of Information (HFI-35), Office of Management Programs, Food and Drug Administration, 5600 Fishers Lane, Rm. 6-30, Rockville, MD 20857. Transcripts will also be available on the Internet at http://www.fda.gov/Drugs/NewsEvents/ucm490084.htm approximately 45 days after the workshop.

If you need special accommodations because of a disability, please contact Jessica Barnes or Lori Benner (see Contact Person) at least 7 days in advance.”

Dated: May 24, 2016.
Leslie Kux,
Associate Commissioner for Policy.

[FR Doc. 2016-12654 Filed 5-27-16; 8:45 am]

BILLING CODE 4164-01-P